DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than July 9, 2020.

Interested persons are invited to submit written comments regarding the subject matter of the investigations to the Administrator, Office of Trade Adjustment Assistance, at the address shown below, not later than July 9, 2020.

The petitions filed in this case are available for inspection at the Office of the Administrator, Office of Trade Adjustment Assistance, Employment and Training Administration, U.S. Department of Labor, Room N-5428, 200 Constitution Avenue NW, Washington, DC 20210.

Signed at Washington, DC, this 8th day of June 2020.
Hope D. Kinglock,
Certifying Officer, Office of Trade Adjustment Assistance.

APPENDIX

43 TAA Petitions Instituted Between 5/1/20 and 5/31/20
TA-W | Subject firm (petitioners) | Location | Date of institution | Date of petition
95906 | BFGoodrich (State/One-Stop) | Woodburn, IN | 05/01/20 | 04/30/20
95907 | Larco, Inc. (Company) | Crossett, AR | 05/01/20 | 04/30/20
95908 | Zurn Industries (Union) | Erie, PA | 05/04/20 | 05/01/20
95909 | Harsco Environmental (Union) | Koppel, PA | 05/05/20 | 05/04/20
95910 | US Steel Lone Star Tubular Ops.(Union) | Lone Star, TX | 05/05/20 | 05/04/20
95911 | US Steel Wheeling Machine Parts (Union) | Hughes Springs, TX | 05/05/20 | 05/04/20
95912 | Boilermakers Local 105 (State/One-Stop) | Piketon, OH | 05/06/20 | 05/05/20
95913 | JCPenney (State/One-Stop) | Plano, TX | 05/06/20 | 05/05/20
95914 | Boeing Commercial Aircraft (Union) | Tukwila, WA | 05/07/20 | 05/05/20
95915 | Borbet Alabama Inc. (Company) | Auburn, AL | 05/07/20 | 05/06/20
95916 | Integrated Global Services, Inc. (State/One-Stop) | Richmond, VA | 05/07/20 | 05/06/20
95917 | United States Steel Corporation, Minnesota Ore Operations (State/One-Stop) | Keewatin, MN | 05/08/20 | 05/07/20
95918 | Vitro Flat Glass LLC (Company) | Cochranton, PA | 05/11/20 | 05/08/20
95919 | The Doe Run Company (Company) | Herculaneum, MO | 05/14/20 | 05/13/20
95920 | Parallon—Richmond Shared Service Center (State/One-Stop) | Richmond, VA | 05/14/20 | 05/13/20
95921 | U.S. Bank (State/One-Stop) | St Paul, MN | 05/14/20 | 05/13/20
95922 | Caterpillar Inc. (State/One-Stop) | Victoria, TX | 05/15/20 | 05/14/20
95923 | Eaton Corporation (Company) | Kings Mountain, NC | 05/15/20 | 05/14/20
95924 | US Steel Corporation—Granite City Works (State/One-Stop) | Granite City, IL | 05/15/20 | 05/14/20
95925 | Alcoa lntalco Works (Union) | Ferndale, WA | 05/18/20 | 05/11/20
95926 | EMPN a XBS Company (Workers) | Syracuse, NY | 05/19/20 | 05/18/20
95927 | United Conveyor (State/One-Stop) | Melrose Park, IL | 05/19/20 | 05/18/20
95928 | Electrolux Home Products, Inc. (State/One-Stop) | Saint Cloud, MN | 05/22/20 | 05/21/20
95929 | GGI Solutions, e2ip Technologies (State/One-Stop) | Bigfork, MN | 05/22/20 | 05/21/20
95930 | Halliburton Energy Services (Workers) | Duncan, OK | 05/22/20 | 05/21/20
95931 | Royal Engineered Composites (State/One-Stop) | Minden, NE | 05/22/20 | 05/21/20
95932 | Triumph Aerospace Structures, Tulsa (Parent Co. is Triumph Group) (State/One-Stop) | Tulsa, OK | 05/22/20 | 05/21/20
95933 | Umicore Autocat USA, Inc. (Company) | Catoosa, OK | 05/22/20 | 05/21/20
95934 | United Conveyor (State/One-Stop) | Waukegan, IL | 05/22/20 | 05/21/20
95935 | The Boeing Company (Company) | Chicago, IL | 05/27/20 | 05/21/20
95936 | Center Industries (State/One-Stop) | Wichita, KS | 05/27/20 | 05/12/20
95937 | Panasonic Solar North America (Company) | Buffalo, NY | 05/27/20 | 03/06/20
95938 | The Corsi Group Inc. (State/One-Stop) | Indianapolis, IN | 05/28/20 | 05/27/20
95939 | DXC Technology (Workers) | Tysons, VA | 05/28/20 | 05/27/20
95940 | FXI, Inc. (State/One-Stop) | Auburn, IN | 05/28/20 | 05/27/20
95941 | Halliburton Energy Services (Workers) | Duncan, OK | 05/28/20 | 05/27/20
95942 | Pittsburgh Glass Works, LLC dba Vitro Automotive Glass (Company) | Evart, MI | 05/28/20 | 05/27/20
95943 | Woodcraft Industries (State/One-Stop) | Molalla, OR | 05/28/20 | 05/27/20
95944 | Crystal Cabinet Works, Inc. (State/One-Stop) | Princeton, MN | 05/29/20 | 05/28/20
95945 | Freeport-McMoRan Chino Mines Company (State/One-Stop) | Vanadium, NM | 05/29/20 | 05/28/20
95946 | GenOn Holdings, LLC (Company) | Dickerson, MD | 05/29/20 | 05/28/20
95947 | Standard Locknut, LLC (State/One-Stop) | Westfield, IN | 05/29/20 | 05/28/20
95948 | TPX Communications (State/One-Stop) | Saint Louis, MO | 05/29/20 | 05/28/20

[FR Doc.2020-13968 Filed 6-26-20; 8:45 am]

BILLING CODE 4510-FN-P